DEPARTMENT OF TRANSPORTATION

Federal Aviation Administration

14 CFR Part 39

[Docket No. FAA-2024-2141; Project Identifier MCAI-2024-00421-T; Amendment 39-22931; AD 2025-01-07]

RIN 2120-AA64

Airworthiness Directives; Airbus SAS Airplanes

AGENCY: Federal Aviation Administration (FAA), DOT.

ACTION: Final rule.

SUMMARY: The FAA is superseding Airworthiness Directive (AD) 2022-11-01, which applied to certain Airbus SAS Model A300 series airplanes; Model A300 B4-600, B4-600R, and F4-600R series airplanes; and Model A300 C4-605R Variant F airplanes (collectively called Model A300-600 series airplanes). AD 2022-11-01 required a detailed inspection (DET) of the main landing gear (MLG) support rib 5 lower flange, a fluorescent penetrant inspection (FPI) around the spot facing of certain fastener holes if necessary, and applicable corrective actions. This AD was prompted by the determination that additional airplanes are affected by the unsafe condition. This AD continues to require the actions in AD 2022-11-01 and adds airplanes to the applicability, as specified in a European Union Aviation Safety Agency (EASA) AD, which is incorporated by reference. The FAA is issuing this AD to address the unsafe condition on these products.

DATES: This AD is effective March 11, 2025.

The Director of the Federal Register approved the incorporation by reference of a certain publication listed in this AD as of March 11, 2025.

ADDRESSES:

AD Docket: You may examine the AD docket at regulations.gov under Docket No. FAA-2024-2141; or in person at Docket Operations between 9 a.m. and 5 p.m., Monday through Friday, except Federal holidays. The AD docket contains this final rule, the mandatory continuing airworthiness information (MCAI), any comments received, and other information. The address for Docket Operations is U.S. Department of Transportation, Docket Operations, M-30, West Building Ground Floor, Room W12-140, 1200 New Jersey Avenue SE, Washington, DC 20590.

Material Incorporated by Reference:

• For EASA material identified in this AD, contact EASA, Konrad-Adenauer-Ufer 3, 50668 Cologne, Germany; telephone +49 221 8999 000; email ADs@easa.europa.eu; website easa.europa.eu. You may find this material on the EASA website at ad.easa.europa.eu.

• You may view this material at the FAA, Airworthiness Products Section, Operational Safety Branch, 2200 South 216th St., Des Moines, WA. For information on the availability of this material at the FAA, call 206-231-3195. It is also available at regulations.gov under Docket No. FAA-2024-2141.

FOR FURTHER INFORMATION CONTACT: Dan Rodina, Aviation Safety Engineer, FAA, 1600 Stewart Avenue, Suite 410, Westbury, NY 11590; phone: 206-231-3225; email: Dan.Rodina@faa.gov.

SUPPLEMENTARY INFORMATION:

Background

The FAA issued a notice of proposed rulemaking (NPRM) to amend 14 CFR part 39 to supersede AD 2022-11-01, Amendment 39-22051 (87 FR 32292, May 31, 2022) (AD 2022-11-01). AD 2022-11-01 applied to certain Airbus SAS Model A300 and A300-600 series airplanes. AD 2022-11-01 required a one-time DET of the MLG support rib 5 lower flange, inboard and outboard of rib 5, on the right-hand and left-hand sides (i.e., affected area); a one-time FPI around the spot facing of certain fastener holes if necessary; and applicable corrective actions. The FAA issued AD 2022-11-01 to address cracking in the affected area that, if not detected and corrected, could affect the structural integrity of the airplane.

The NPRM published in the Federal Register on September 16, 2024 (89 FR 75507). The NPRM was prompted by AD 2024-0145, dated July 23, 2024, issued by EASA, which is the Technical Agent for the Member States of the European Union (EASA AD 2024-0145) (also referred to as the MCAI). The MCAI states certain airplanes were excluded from the applicability of EASA AD 2021-0190, dated August 17, 2021 (corresponds to AD 2022-11-01) on the assumption they were withdrawn from service. At least one of those airplanes later returned to service and there is no evidence the other airplanes were scrapped or dismantled so the possibility exists they could also return to service. For these reasons, the applicability was expanded to include those airplanes.

Also, since the FAA issued AD 2022-11-01, FAA Type Certificate A35EU was updated to remove Airbus SAS Model A300 B2-1A, B2-1C, B2K-3C, and B2-203 airplanes. The FAA therefore has removed those airplanes from the applicability of this AD.

In the NPRM, the FAA proposed to continue to require the actions in AD 2022-11-01 and add airplanes to the applicability, as specified in EASA AD 2024-0145. The FAA is issuing this AD to address the unsafe condition on these products.

You may examine the MCAI in the AD docket at regulations.gov under Docket No. FAA-2024-2141.

Discussion of Final Airworthiness Directive

Comments

The FAA received comments from two commenters, The Air Line Pilots Association, International (ALPA) and FedEx Express, who supported the NPRM without change.

Change Made to This AD

The unsafe condition in paragraph (e) of this AD has been revised to include the action that prompted this AD.

Conclusion

This product has been approved by the aviation authority of another country and is approved for operation in the United States. Pursuant to the FAA's bilateral agreement with this State of Design Authority, it has notified the FAA of the unsafe condition described in the MCAI referenced above. The FAA reviewed the relevant data, considered the comments received, and determined that air safety requires adopting this AD as proposed. Accordingly, the FAA is issuing this AD to address the unsafe condition on this product. Except for minor editorial changes, and any other changes described previously, this AD is adopted as proposed in the NPRM. None of the changes will increase the economic burden on any operator.

Material Incorporated by Reference Under 1 CFR Part 51

EASA AD 2024-0145 specifies procedures for a one-time DET of the affected area, a one-time FPI around the spot facing of certain fastener holes in the affected area if no crack is detected during the DET, and obtaining and following approved repair instructions if any crack is found during the DET or FPI. EASA AD 2024-0145 also updated the applicability of affected airplanes.

This material is reasonably available because the interested parties have access to it through their normal course of business or by the means identified in the ADDRESSES section.

Costs of Compliance

The FAA estimates that this AD affects 124 airplanes of U.S. registry. The FAA estimates the following costs to comply with this AD:

Estimated Costs for Required Actions
Labor cost | Parts cost | Cost per product | Cost on U.S. operators
23 work-hours × $85 per hour = $1,955 | $0 | $1,955 | $242,420

The FAA estimates the following costs to replace any cracked rib that are required, based on the results of any required actions and repair status. The FAA has no way of determining the number of aircraft that might need this on-condition action:

Estimated Costs of On-Condition Actions
Labor cost | Parts cost | Cost per product
Up to 1,500 work-hours × $85 per hour = $127,500 | $620,000 | Up to $747,500.

The FAA has received no definitive data on which to base the cost estimates for the repair specified in this AD.

Authority for This Rulemaking

Title 49 of the United States Code specifies the FAA's authority to issue rules on aviation safety. Subtitle I, section 106, describes the authority of the FAA Administrator. Subtitle VII: Aviation Programs, describes in more detail the scope of the Agency's authority.

The FAA is issuing this rulemaking under the authority described in Subtitle VII, Part A, Subpart III, Section 44701: General requirements. Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

This AD will not have federalism implications under Executive Order 13132. This AD will not have a substantial direct effect on the States, on the relationship between the national government and the States, or on the distribution of power and responsibilities among the various levels of government.

For the reasons discussed above, I certify that this AD:

(1) Is not a “significant regulatory action” under Executive Order 12866,

(2) Will not affect intrastate aviation in Alaska, and

(3) Will not have a significant economic impact, positive or negative, on a substantial number of small entities under the criteria of the Regulatory Flexibility Act.

List of Subjects in 14 CFR Part 39

Air transportation, Aircraft, Aviation safety, Incorporation by reference, Safety.

The Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by:

a. Removing Airworthiness Directive (AD) 2022-11-01, Amendment 39-22051 (87 FR 32292, May 31, 2022); and

b. Adding the following new AD:

2025-01-07 Airbus SAS: Amendment 39-22931; Docket No. FAA-2024-2141; Project Identifier MCAI-2024-00421-T.

(a) Effective Date

This airworthiness directive (AD) is effective March 11, 2025.

(b) Affected ADs

This AD replaces AD 2022-11-01, Amendment 39-22051 (87 FR 32292, May 31, 2022).

(c) Applicability

This AD applies to Airbus SAS airplanes identified in paragraphs (c)(1) through (5) of this AD, certificated in any category, as identified in European Union Aviation Safety Agency (EASA) AD 2024-0145, dated July 23, 2024 (EASA AD 2024-0145).

(1) Model A300 B4-2C, B4-103, and B4-203 airplanes.

(2) Model A300 B4-601, B4-603, B4-620, and B4-622 airplanes.

(3) Model A300 B4-605R and B4-622R airplanes.

(4) Model A300 C4-605R Variant F airplanes.

(5) Model A300 F4-605R and F4-622R airplanes.

(d) Subject

Air Transport Association (ATA) of America Code 57, Wings.

(e) Unsafe Condition

This AD was prompted by reports of cracking in the main landing gear (MLG) support rib 5 lower flange, inboard and outboard of rib 5, on the right-hand and left-hand sides, and the determination that additional airplanes are affected by the unsafe condition. The FAA is issuing this AD to address cracking of the MLG support rib 5 lower flange. This condition, if not detected and corrected, could affect the structural integrity of the airplane.

(f) Compliance

Comply with this AD within the compliance times specified, unless already done.

(g) Requirements

Except as specified in paragraph (h) of this AD: Comply with all required actions and compliance times specified in, and in accordance with, EASA AD 2024-0145.

(h) Exceptions to EASA AD 2024-0145

(1) Where EASA AD 2024-0145 refers to August 31, 2021 (the effective date of EASA AD 2021-0190), this AD requires using July 5, 2022 (the effective date of AD 2022-11-01, Amendment 39-22051 (87 FR 32292, May 31, 2022)).

(2) Where EASA AD 2024-0145 refers to its effective date, this AD requires using the effective date of this AD.

(3) Where paragraph (3) of EASA AD 2024-0145 specifies to “accomplish those instructions accordingly” if any crack is detected, for this AD if any crack is detected, the crack must be repaired before further flight using a method approved by the Manager, International Validation Branch, FAA; or EASA; or Airbus SAS's EASA Design Organization Approval (DOA). If approved by the DOA, the approval must include the DOA-authorized signature.

(4) This AD does not adopt the “Remarks” section of EASA AD 2024-0145.

(i) Additional AD Provisions

The following provisions also apply to this AD:

(1) Alternative Methods of Compliance (AMOCs): The Manager, AIR-520, Continued Operational Safety Branch, FAA, has the authority to approve AMOCs for this AD, if requested using the procedures found in 14 CFR 39.19. In accordance with 14 CFR 39.19, send your request to your principal inspector or responsible Flight Standards Office, as appropriate. If sending information directly to the manager of the Continued Operational Safety Branch, send it to the attention of the person identified in paragraph (j) of this AD and email to: AMOC@faa.gov.

(i) Before using any approved AMOC, notify your appropriate principal inspector, or lacking a principal inspector, the manager of the responsible Flight Standards Office.

(ii) Airbus Statement of Airworthiness Compliance (ASAC) 80955386/006/2021, Issue 1, dated August 25, 2021; and ASAC 80955386/024/2022, Issue 1, dated February 25, 2022, are approved as AMOCs for the corresponding provisions of this AD for the airplanes identified in those ASACs only.

(2) Contacting the Manufacturer: For any requirement in this AD to obtain instructions from a manufacturer, the instructions must be accomplished using a method approved by the Manager, AIR-520, Continued Operational Safety Branch, FAA; or EASA; or Airbus SAS's EASA DOA. If approved by the DOA, the approval must include the DOA-authorized signature.

(3) Required for Compliance (RC): Except as required by paragraph (i)(2) of this AD, if any material referenced in EASA AD 2024-0145 contains paragraphs that are labeled as RC, the instructions in RC paragraphs, including subparagraphs under an RC paragraph, must be done to comply with this AD; any paragraphs, including subparagraphs under those paragraphs, that are not identified as RC are recommended. The instructions in paragraphs, including subparagraphs under those paragraphs, not identified as RC may be deviated from using accepted methods in accordance with the operator's maintenance or inspection program without obtaining approval of an AMOC, provided the instructions identified as RC can be done and the airplane can be put back in an airworthy condition. Any substitutions or changes to instructions identified as RC require approval of an AMOC.

(j) Additional Information

For more information about this AD, contact Dan Rodina, Aviation Safety Engineer, FAA, 1600 Stewart Avenue, Suite 410, Westbury, NY 11590; phone: 206-231-3225; email: Dan.Rodina@faa.gov.

(k) Material Incorporated by Reference

(1) The Director of the Federal Register approved the incorporation by reference of the material listed in this paragraph under 5 U.S.C. 552(a) and 1 CFR part 51.

(2) You must use this material as applicable to do the actions required by this AD, unless this AD specifies otherwise.

(i) European Union Aviation Safety Agency (EASA) AD 2024-0145, dated July 23, 2024.

(ii) [Reserved]

(3) For EASA material identified in this AD, contact EASA, Konrad-Adenauer-Ufer 3, 50668 Cologne, Germany; telephone +49 221 8999 000; email ADs@easa.europa.eu; website easa.europa.eu. You may find this material on the EASA website at ad.easa.europa.eu.

(4) You may view this material at the FAA, Airworthiness Products Section, Operational Safety Branch, 2200 South 216th Street, Des Moines, WA. For information on the availability of this material at the FAA, call 206-231-3195.

(5) You may view this material at the National Archives and Records Administration (NARA). For information on the availability of this material at NARA, visit www.archives.gov/federal-register/cfr/ibr-locations or email fr.inspection@nara.gov.

Issued on January 6, 2025.
Suzanne Masterson,
Deputy Director, Integrated Certificate Management Division, Aircraft Certification Service.

[FR Doc. 2025-02145 Filed 2-3-25; 8:45 am]

BILLING CODE 4910-13-P